DEPARTMENT OF TRANSPORTATION

Federal Highway Administration

Environmental Impact Statement; Woodbury County, IA

AGENCY: Federal Highway Administration (FHWA), DOT.

ACTION: Revision to notice of intent.

SUMMARY: The FHWA issued a notice of intent to prepare an Environmental Impact Statement (EIS) for a proposed Interstate 29 corridor study in Sioux City, Iowa from Sioux Gateway Airport/Sergeant Bluff Interchange to the South Dakota State border, published on November 18, 2004, 69 FR 67618. The FHWA is issuing this notice to advise the public of a revision to the study corridor limits. The proposed Interstate 29 study corridor for which an Environmental Impact Statement will be prepared is defined as extending from approximately ¼ mile south of the Burlington Northern Santa Fe Railroad Bridge over the Missouri River to Judd Street along the existing Interstate 29 corridor in Sioux City, Iowa.

FOR FURTHER INFORMATION CONTACT: Mike LaPietra, Environment and Realty Manager, FHWA Iowa Division Office, 105 Sixth Street, Ames, IA, Ph. 515-233-7302; or James P. Rost, Director, Office of Location and Environment, Iowa Department of Transportation, 800 Lincoln Way, Ames, IA 50010, Ph. 515-239-1225.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) via telephone in dial-up mode or via the Internet through (2) telnet, (3) FTP, and (4) the World Wide Web.

For dial-in mode a user needs a personal computer, modem, telecommunications software package and telephone line. A hard disk is recommended for file transfers.

For Internet access a user needs Internet connectivity. Users can telnet or FTP to: fedbbs.access.gpo.gov. Users can access the FBB via the World Wide Web at http://fedbbs.access.gpo.gov.

Comments or questions concerning this revision to the notice of intent issued on November 18, 2004 should be directed to the FHWA or Iowa Department of Transportation at the address provided in the caption FOR FURTHER INFORMATION CONTACT.

(Catalog of Federal Domestic Assistance Program Number 20.205, Highway Planning and Construction. The regulations implementing Executive Order 12372 regarding intergovernmental consultation on Federal programs and activities apply to this program.)

Authority: 23 U.S.C. 315; 49 CFR 1.48.

Dated: December 20, 2005.
Gerald Kennedy,
Assistant Division Administrator, FHWA Iowa Division.

[FR Doc. E5-8101 Filed 12-29-05; 8:45 am]

BILLING CODE 4910-22-P